DEPARTMENT OF LABOR

Employment and Training Administration

[TA-W-65,451]

Reynolds Food Packaging, Grove City, PA; Notice of Termination of Investigation

Pursuant to Section 221 of the Trade Act of 1974, as amended, an investigation was initiated on March 02, 2009, in response to a worker petition filed by the United Steelworkers of America, Local 5306, on behalf of workers at Reynolds Food Packaging, Grove City, Pennsylvania.

The petitioner has requested that the petition be withdrawn. Consequently, the investigation has been terminated.

Signed at Washington, DC, this 23rd day of March 2009.
Linda G. Poole,
Certifying Officer, Division of Trade Adjustment Assistance.

[FR Doc. E9-8292 Filed 4-10-09; 8:45 am]

BILLING CODE 4510-FN-P